DEPARTMENT OF TRANSPORTATION

Federal Highway Administration

Planning Study: Lyon, Caldwell, Hopkins, Webster, and Henderson Counties in Kentucky

AGENCY: Federal Highway Administration (FHWA), DOT.

ACTION: Notice of intent.

SUMMARY: The FHWA is issuing this notice to advise the public of its intent to initiate a planning study for a proposed highway project in the southwestern portion of Kentucky, located between Eddyville and Henderson, Kentucky.

FOR FURTHER INFORMATION CONTACT: Evan J. Wisniewski, Project Development Team Leader, Federal Highway Administration, 330 West Broadway, Frankfort, KY 40601, Telephone: (502) 223-6740, e-mail: evan.wisniewski@fhwa.dot.gov; or Ms. Annette Coffey, Director, Division of Planning, Kentucky Transportation Cabinet, 125 Holmes Street, Frankfort, KY 40622, Telephone: (502) 564-7183, e-mail: Annette.coffey@mail.stat.ku.us.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's Web page at http://www.access.gpo.gov.nara.

Background

The I-69 project is part of a proposed “High Priority Corridor” of national significance (Corridor 18) that extends from the Canadian border at Port Huron, Michigan, to the Mexican border in the Lower Rio Grande Valley of Texas, in accordance with the legislative intent of the Intermodel Surface Transportation Efficiency Act (ISTEA) of 1991 and subsequent federal transportation legislation. Segments of the corridor across Kentucky are in various stages of project development. This study will address alternatives and issues related to the development of an interstate highway between Eddyville and Henderson that will improve travel within the study area and become a segment of the national I-69 corridor.

During this study, comments will be gathered from appropriate federal, state, and local agencies, as well as other interested persons and the general public, in accordance with requirements set forth in the National Environmental Policy Act (NEPA) of 1969 and subsequent federal regulations and guidelines developed by the Executive Office of the President's Council on Environmental Quality and the United States Department of Transportation for the implementation of the NEPA process.

This study will include a scoping process for the early identification of potential alternatives and environmental issues related to the proposed project. At this time, the level of environmental documentation that will ultimately be prepared is not known. However, if an Environmental Impact Statement (EIS) is prepared for the proposed project in the future, the information gained through the scoping process in this planning study may be used as input to the scoping process for the development of that EIS. If an EIS is prepared in the future, written comments on the scope of alternatives and impacts will still be considered at that time, after the filing of the Notice of Intent (NOI).

(Catalog of Federal Domestic Assistance Program Number 20.205, “Highway Planning and Construction.” The regulations implementing Executive Order 12372 regarding intergovernmental consultation on Federal programs and activities apply to this program.) (23 U.S.C. 315; 49 CFR 1.48)
Issued on: September 16, 2002.
Evan J. Wisniewski,
Project Delivery Team Leader, Kentucky Division, Frankfort, KY 40601.

[FR Doc. 02-24020 Filed 9-20-02; 8:45 am]

BILLING CODE 4910-22-M